FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011885-001.

Title: CMA CGM/MSC Reciprocal Space Charter, Sailing and Cooperative Working Agreement.

Parties: CMA CGM, S.A. and Mediterranean Shipping Co. S.A.

Filing Party: Wayne R. Rohde, Esq.; Sher & Blackwell LLC; 1850 M Street, NW., Suite 900; Washington, DC 20036.

Synopsis: The amendment would revise temporarily the provision of vessels and the allocation of space under the agreement.

Agreement No.: 011966-001.

Title: West Coast USA-Mexico & Canada Vessel Sharing Agreement.

Parties: Compania Sud Americana de Vapores S.A.; Hamburg Süd; Compania Chilena de Navegacion Interoceania, S.A.; and Maruba S.C.A.

Filing Party: Wayne R. Rohde, Esq.; Sher & Blackwell LLP; 1850 M Street, NW.; Suite 900; Washington, DC 20036.

Synopsis: The amendment would delete Maruba S.C.A as a party to the agreement and adjust the terms under which the remaining parties will continue to operate. Parties request expedited review.

Dated: October 6, 2009.
By Order of the Federal Maritime Commission.
Karen V. Gregory,
Secretary.

[FR Doc. E9-24452 Filed 10-8-09; 8:45 am]

BILLING CODE 6730-01-P